DEPARTMENT OF TRANSPORTATION

Coast Guard

33 CFR Part 100

[CGD05-00-032]

RIN 2115-AE46

Special Local Regulations for Marine Events; Chesapeake Challenge, Patapsco River, Baltimore, MD

AGENCY: Coast Guard, DOT.

ACTION: Temporary final rule.

SUMMARY: The Coast Guard is adopting temporary special local regulations during the “Chesapeake Challenge” powerboat race to be held on the waters of the Patapsco River near Baltimore, Maryland. These special local regulations are necessary to provide for the safety of life on navigable waters during the event. This action is intended to restrict vessel traffic in portions of the Patapsco River during the event.

DATES: This rule is effective from 1 p.m. on August 26, 2000 to 4 p.m. on August 27, 2000.

ADDRESSES: You may mail comments and related material to Commander (Aoax), Fifth Coast Guard District, 431 Crawford Street, Portsmouth, Virginia 23704-5004, or deliver them to the same address between 9 a.m. and 2 p.m., Monday through Friday, except Federal holidays. Comments and materials received from the public as well as documents indicated in this preamble as being available in the docket, are part of docket CGD05-00-032 and are available for inspection or copying at Commander (Aoax), Fifth Coast Guard District, 431 Crawford Street, Portsmouth, Virginia 23704-5004, between 9 a.m. and 2 p.m., Monday through Friday, except Federal holidays.

FOR FURTHER INFORMATION CONTACT: Chief Warrant Officer R. Houck, Marine Events Coordinator, Commander, Coast Guard Activities Baltimore, telephone number (410) 576-2674.

SUPPLEMENTARY INFORMATION:

Request for Comments

Although this rule is being published as a temporary final rule without prior notice, an opportunity for public comment is nevertheless desirable to ensure the rule is both reasonable and workable. Accordingly, we encourage you to submit comments and related material. If you do so, please include your name and address, identify the docket number (CGD05-00-032), indicate the specific section of this document to which each comment applies, and give the reason for each comment. Please submit all comments and related materials in an unbound format, no larger than 8.5 by 11 inches, suitable for copying. If you would like to know they reached us, please enclose a stamped, self-addressed postcard or envelope.

Regulatory Information

A notice of proposed rulemaking (NPRM) was not published for this regulation. In keeping with 5 U.S.C. 553(b)(B), the Coast Guard finds that good cause exists for not publishing a NPRM. The Coast Guard was notified of the need for special local regulations with insufficient time to publish a NPRM, allow for comments, and publish a final rule prior to the event.

Under 5 U.S.C. 553(d)(3), the Coast Guard finds that good cause exists for making this rule effective less than 30 days after publication in the Federal Register. We had insufficient time to prepare and publish this rule in the Federal Register 30 days in advance of the events. To delay the effective date of the rule would be contrary to the public interest since a timely rule is necessary to protect mariners from the hazards associated with high speed powerboat races.

Background and Purpose

On August 26 and August 27, 2000, the Chesapeake Bay Power Boat Association will sponsor the “Chesapeake Challenge” powerboat race, on the waters of the Patapsco River, Baltimore, Maryland. The event will consist of 65 to 80 offshore powerboats racing in heats around an oval race course. A large fleet of spectator vessels is anticipated. Due to the need for vessel control during the races, vessel traffic will be temporarily restricted to provide for the safety of spectators, participants and transiting vessels.

Discussion of Regulations

The Coast Guard is establishing temporary special local regulations on specified waters of the Patapsco River. The temporary special local regulations will be in effect from 1 p.m. on August 26, 2000 to 4 p.m. on August 27, 2000. The effect will be to restrict general navigation in the regulated areas during the event. Except for participants in the “Chesapeake Challenge” powerboat race and vessels authorized by the Coast Guard Patrol Commander, no person or vessel may enter or remain in the regulated area. This rule also establishes three spectator viewing areas for the exclusive use of spectator vessels. These regulations are needed to control vessel traffic during the event to enhance the safety of participants, spectators and transiting vessels.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

We expect the economic impact of this temporary final rule to be so minimal that a full Regulatory Evaluation under paragraph 10e of the regulatory policies and procedures of DOT is unnecessary.

Although this regulation prevents traffic from transiting a portion of the Patapsco River during the event, the effect of this regulation will not be significant due to the limited duration of the regulation and the extensive advance notifications that will be made to the maritime community via the Local Notice to Mariners, marine information broadcasts, and area newspapers, so mariners can adjust their plans accordingly.

Small Entities

Under the Regulatory Flexibility Act (5 U.S.C. 601 et seq.), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: The owners or operators of vessels intending to transit or anchor in the effected portions of the Patapsco River during the event.

Although this regulation prevents traffic from transiting or anchoring in a portion of the Patapsco River during the event, the effect of this regulation will not be significant because of its limited duration and the extensive advance notifications that will be made to the maritime community via the Local Notice to Mariners, marine information broadcasts, and area newspapers, so mariners can adjust their plans accordingly.

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

We prepared an “Environmental Assessment” in accordance with Commandant Instruction M16475.1C, and determined that this rule will not significantly affect the quality of the human environment. The “Environmental Assessment” and “Finding of No Significant Impact” is available in the docket where indicated under ADDRESSES.

List of Subjects in 33 CFR Part 100

Marine safety, Navigation (water), Reporting and recordkeeping requirements, Waterways.

For the reasons discussed in the preamble, the Coast Guard amends 33 CFR part 100 as follows:

PART 100—[AMENDED]

1. The authority citation for part 100 continues to read as follows:

Authority: 33 U.S.C. 1233 through 1236; 49 CFR 1.46; 33 CFR 100.35.

2. A temporary section, § 100.35-T05-032 is added to read as follows:

§ 100.35-T05-032 Special Local Regulations for Marine Events; Chesapeake Challenge, Patapsco River, Baltimore, Maryland.

(a) Definitions. (1) Regulated Area. The waters of the Patapsco River bounded by a line connecting the following points:

Latitude | Longitude
39°15′27.5″ N | 076°33′10.0″ W, to
39°13′23.0″ N | 076°31′14.0″ W, to
39°12′06.0″ N | 076°29′43.5″ W, to
39°12′00.0″ N | 076°29′08.0″ W, to
39°11′24.0″ N | 076°29′27.5″ W, to
39°11′48.0″ N | 076°30′58.0″ W, to
39°14′53.5″ N | 076°34′15.0″ W, to
39°15′24.0″ N | 076°33′53.0″ W, to
39°15′27.5″ N | 076°33′10.0″ W.

(2) Curtis Bay South Spectator Area. The waters south of Curtis Bay Channel bounded by a line connecting the following points:

Latitude | Longitude
39°13′16.0″ N | 076°32′31.5″ W, to
39°13′00.0″ N | 076°32′16.0″ W, to
39°12′49.5″ N | 076°32′31.5″ W, to
39°13′06.0″ N | 076°32′48.5″ W, to
39°13′16.0″ N | 076°32′31.5″ W.

(3) Curtis Bay North Spectator Area. The waters north of Curtis Bay Channel bounded by a line connecting the following points:

Latitude | Longitude
39°14′00.0″ N | 076°33′18.5″ W, to
39°13′33.0″ N | 076°32′50.0″ W, to
39°13′20.5″ N | 076°33′13.5″ W, to
39°13′37.0″ N | 076°33′40.0″ W, to
39°14′00.0″ N | 076°33′18.5″ W.

(4) Hawkins Point Spectator Area. The waters south of Hawkins Point bounded by a line connecting the following points:

Latitude | Longitude
39°12′26.5″ N | 076°31′39.0″ W, to
39°11′48.0″ N | 076°30′58.0″ W, to
39°11′40.0″ N | 076°30′33.0″ W, to
39°11′16.5″ N | 076°30′46.5″ W, to
39°12′19.5″ N | 076°31′50.5″ W, to
39°12′26.5″ N | 076°31′39.0″ W.

All coordinates reference Datum NAD 1983.

(5) Coast Guard Patrol Commander. The Coast Guard Patrol Commander is a commissioned, warrant, or petty officer of the Coast Guard who has been designated by the Commander, Coast Guard Activities Baltimore.

(6) Official Patrol. The Official Patrol is any vessel assigned or approved by Commander, Coast Guard Activities Baltimore with a commissioned, warrant, or petty officer on board and displaying a Coast Guard ensign.

(7) Participating vessels. Participating vessels include all vessels participating in the Chesapeake Challenge powerboat race under the auspices of the Marine Event Application submitted by the Chesapeake Bay Power Boat Association, and approved by the Commander, Fifth Coast Guard District.

(8) Spectator vessels. Includes any vessel, commercial or recreational, being used for pleasure or carrying passengers, that is on the Patapsco River to observe the Chesapeake Challenge powerboat race.

(b) Special local regulations. (1) Except for persons or vessels authorized by the Coast Guard Patrol Commander, no person or vessel may enter or remain in the regulated area.

(2) The operator of any vessel in this area shall:

(i) Stop the vessel immediately when directed to do so by any official patrol.

(ii) Proceed as directed by any official patrol.

(iii) While in the regulated area, proceed at minimum wake speed not to exceed six (6) knots, unless otherwise directed by the official patrol.

(3) Spectator vessels may enter and anchor in the spectator areas described in paragraphs (a)(2), (a)(3) and (a)(4) of this section without the permission of the Patrol Commander. They shall use caution not to enter the regulated area. These spectator areas are for the exclusive use of spectator vessels.

(c) Effective dates. This section is effective from 1 p.m. on August 26, 2000 to 4 p.m. on August 27, 2000.

(d) Enforcement times. This section will be enforced from 1 p.m. to 4 p.m. on August 26 and August 27, 2000.

Dated: August 2, 2000.
J.E. Shkor,
Vice Admiral, U.S. Coast Guard, Commander, Fifth Coast Guard District.

[FR Doc. 00-20592 Filed 8-11-00; 8:45 am]

BILLING CODE 4910-15-U